DEPARTMENT OF HEALTH AND HUMAN SERVICES

Office of the Secretary

[Document Identifier: 0937-0198-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0937-0198, which expires on May 31, 2017. Prior to submitting the ICR to OMB, OS seeks comments from the public regarding the burden estimate, below, or any other aspect of the ICR.

DATES: Comments on the ICR must be received on or before March 20, 2017.

ADDRESSES: Submit your comments to Information.CollectionClearance@hhs.gov or by calling (202) 690-5683 or email Sherrette.funn@hhs.gov.

SUPPLEMENTARY INFORMATION: When submitting comments or requesting information, please include the document identifier 0937-0198-60D for reference.

Proposed Project: Public Health Service Polices on Research Misconduct (42 CFR part 93)-OMB No 0937-0198-Extension—Office of Resource Integrity.

Abstract: This is a request to extend the currently approved collection, OMB No 0937-0198, which involves two forms: PHS-6349 and PHS-6315. The purpose of the Institutional Assurance and Annual Report on Possible Research Misconduct form (PHS-6349) is to provide data on the amount of research misconduct activity occurring in institutions conducting PHS-supported research, as well as providing an annual assurance that those institutions have established and will follow administrative policies and procedures for responding to allegations of research misconduct that comply with the Public Health Service (PHS) Regulations on Research Misconduct (42 CFR part 93). The purpose of the Assurance of Compliance by Sub-Award Recipients form (PHS-6315) is to establish a similar assurance of compliance with 42 CFR part 93 for sub-awardee institutions, as well as provide data on the amount of research misconduct activity occurring in those sub-awardee institutions. Research misconduct is defined as receipt of an allegation of research misconduct and/or the conduct of an inquiry and/or investigation into such allegations. These data enable the ORI to monitor institutional compliance with the PHS regulation.

Summary of the information collection: Lastly, the forms will be used to respond to congressional requests for information to prevent misuse of Federal funds and to protect the public interest.

Need and Proposed Use of the Information: Public Health Service Polices on Research Misconduct (42 CFR part 93)-OMB No 0937-0198-Extension—Office of Research Integrity.

Estimated Annualized Burden Table
Forms (if necessary) | Type of respondent | Number of respondents | Number of responses per respondent | Average burden hours per response | Total burden hours
PHS-6349 | Awardee Institutions | 5435 | 1 | 10/60 | 906
PHS-6315 | Sub-award Institution's | 200 | 1 | 5/60 | 17
Total |  |  |  |  | 923

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2017-01106 Filed 1-18-17; 8:45 am]

BILLING CODE 4150-31-P